DEPARTMENT OF HEALTH AND HUMAN SERVICES

National Institutes of Health

National Institute on Deafness and Other Communication Disorders; Amended Notice of Meeting

Notice is hereby given of a change in the meeting of the National Deafness and Other Communication Disorders Advisory Council, September 04, 2025, 01:00 p.m. to September 05, 2025, 01:05 p.m., National Institutes of Health, Neuroscience Center, 6001 Executive Boulevard, Rockville, MD 20852 which was published in the Federal Register on July 21, 2025, 90 FR 34281.

The meeting time has been changed from 9:00 a.m. to 9:40 a.m. to 9:30 a.m. to 10:00 a.m. The meeting is partially Closed to the public.

Dated: July 24, 2025.
Bruce A. George,
Program Analyst, Office of Federal Advisory Committee Policy.

[FR Doc. 2025-14239 Filed 7-28-25; 8:45 am]

BILLING CODE 4140-01-P